DEPARTMENT OF HEALTH AND HUMAN SERVICES

National Institutes of Health

National Cancer Institute; Amended Notice of Meeting

Notice is hereby given of a change in the meeting of the National Cancer Institute Clinical Trials and Translational Research Advisory Committee, March 09, 2016, 11:00 a.m. to March 09, 2016, 01:00 p.m., National Cancer Institute, Shady Grove, 9609 Medical Center Drive, Rockville, MD, 20850 which was published in the Federal Register on January 26, 2016, 81 FR 4321.

The meeting notice is amended to change the location of the meeting from the National Cancer Institute, Shady Grove, 9609 Medical Center Drive, Rockville, MD, 20850 to the National Institutes of Health, 9000 Rockville Pike, Bethesda, MD, 20892, Building 31, C-Wing, 6th Floor, Room 10. The meeting is open to the public.

Dated: February 1, 2016.
Melanie J. Gray,
Program Analyst, Office of Federal Advisory Committee Policy.

[FR Doc. 2016-02187 Filed 2-4-16; 8:45 am]

BILLING CODE 4140-01-P